ENVIRONMENTAL PROTECTION AGENCY

40 CFR Part 52

[MD132 & MD133-3087b; FRL-7210-2 ]

Approval and Promulgation of Air Quality Implementation Plans; State of Maryland; Revised Definitions and Recordkeeping Provisions

AGENCY: Environmental Protection Agency (EPA).

ACTION: Proposed rule.

SUMMARY: EPA proposes to approve State Implementation Plan (SIP) revisions submitted by the State of Maryland. The revisions adopt by reference the EPA definition of volatile organic compounds (VOC), update the Federal citation of the prevention of significant deterioration (PSD) requirements references in Maryland's definitions and general emission standards provisions, and revise the general records and information requirements for installations and sources. In the Rules and Regulations section of this Federal Register, EPA is approving these revisions to the State of Maryland's SIP as a direct final rule in accordance with the requirements of the Clean Air Act. If EPA receives no adverse comments on the direct final rule, EPA will not take further action. If EPA receives adverse comments on the direct final rule, EPA will withdraw the direct final rule and it will not take effect. EPA will address all public comments in a subsequent final rule based on this proposed rule. EPA will not institute a second comment period on this action. Any parties interested in commenting on this action should do so at this time.

DATES: Comments must be received in writing by June 27, 2002.

ADDRESSES: Written comments should be addressed to Harold A. Frankford, Office of Air Programs, Mailcode 3AP20, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Maryland Department of the Environment, 2500 Broening Highway, Baltimore, Maryland, 21224.

FOR FURTHER INFORMATION CONTACT: Harold A. Frankford at (215) 814-2108, or by e-mail at frankford.harold@epa.gov. Please note that while questions may be posed via telephone and e-mail, formal comments must be submitted in writing, as indicated in the ADDRESSES section of this document.

SUPPLEMENTARY INFORMATION: For further information, please see the information provided in the direct final action, with the same title, that is located in the “Rules and Regulations” section of this Federal Register publication. Please note that if EPA receives adverse comment on an amendment, paragraph, or section of the direct final rule and if that provision may be severed from the remainder of the direct final rule, EPA may adopt as final those provisions of the direct final rule that are not the subject of an adverse comment.

Dated: May 1, 2002.
Thomas C. Voltaggio,
Acting Regional Administrator, Region III.

[FR Doc. 02-13111 Filed 5-24-02; 8:45 am]

BILLING CODE 6560-50-P